DEPARTMENT OF THE INTERIOR

National Park Service

[NPS-WASO-NAGPRA-NPS0038479; PPWOCRADN0-PCU00RP14.R50000]

Notice of Inventory Completion: New York State Museum, Albany, NY

AGENCY: National Park Service, Interior.

ACTION: Notice.

SUMMARY: In accordance with the Native American Graves Protection and Repatriation Act (NAGPRA), the New York State Museum (NYSM) has completed an inventory of human remains and associated funerary objects and has determined that there is a cultural affiliation between the human remains and associated funerary objects and Indian Tribes or Native Hawaiian organizations in this notice.

DATES: Repatriation of the human remains and associated funerary objects in this notice may occur on or after September 12, 2024.

ADDRESSES: Lisa Anderson, New York State Museum, 3049 Cultural Education Center, Albany, NY 12230, telephone (518) 486-2020, email lisa.anderson@nysed.gov.

SUPPLEMENTARY INFORMATION: This notice is published as part of the National Park Service's administrative responsibilities under NAGPRA. The determinations in this notice are the sole responsibility of the New York State Museum, and additional information on the determinations in this notice, including the results of consultation, can be found in its inventory or related records. The National Park Service is not responsible for the determinations in this notice.

Abstract of Information Available

Human remains representing, at least, seven individuals have been identified. The 310 associated funerary objects are 243 Meadowood cache blades, one projectile point, two projectile point fragments, one biface, two biface fragments, two side-notched projectile points, 10 stone scrapers, 26 chert flakes, four quartz crystals, four stone gorget fragments, one groundstone tool, one groundstone fragment, one fire-cracked rock, four hematite samples, two beaver incisors, two antler fragments, one turtle shell fragment, one charcoal sample, and two soil samples. The human remains and associated funerary objects were removed from the Hunter site, Jefferson County, NY, during excavations conducted in 1952 by Dr. William A. Ritchie of the NYSM.

Human remains representing, at least, seven individuals have been identified. The 253 associated funerary objects include one copper flaking tool with carved wooden handle, 226 Meadowood-type cache blades, one chert drill, one chert tool, two groundstone celts, two groundstone tools, one piece of fire-cracked rock, four hematite samples, four chert flakes, one wood fragment, three calcined bone fragments, one Meadowood-type projectile point, one projectile point tip, two biface fragments, two chert scrapers, and one utilized chert flake. The human remains and associated funerary objects were removed from the Muskalonge Lake site, Jefferson County, NY, during excavations conducted in 1951 and 1952 by Dr. William A. Ritchie of the NYSM.

Human remains representing, at least, two individuals have been identified. No associated funerary objects are present. The human remains were removed from Jefferson County, NY, and acquired by the NYSM by Mr. Robert D. Loveland in 1912.

Human remains representing, at least, one individual have been identified. No associated funerary objects are present. The human remains were removed from Jefferson County, NY, and acquired by the NYSM by Mr. Charles P. Oatman in 1913.

Human remains representing, at least, four individuals have been identified. No associated funerary objects are present. The human remains were removed from Jefferson County, NY. NYSM has no record of the acquisition.

Human remains representing, at least, one individual have been identified. No associated funerary objects are present. The human remains were removed from the Colligan site, Jefferson County, NY, and acquired by the NYSM from Mr. R.D. Loveland in 1912.

Human remains representing, at least, one individual have been identified. No associated funerary objects are present. The human remains were removed from the vicinity of Rutland, Jefferson County, NY, and acquired by NYSM in 1897 from Mr. J.S. Twining.

Human remains representing, at least one individual have been identified. No associated funerary objects are present. The human remains were removed from the Atwell Fort site, Madison County, NY, and acquired by the NYSM from Mr. Otis M. Bigelow in 1914.

Cultural Affiliation

Based on the information available and the results of consultation, cultural affiliation is reasonably identified by the geographical location or acquisition history of the human remains and associated funerary objects described in this notice.

Determinations

The New York State Museum has determined that:

• The human remains described in this notice represent the physical remains of 24 individuals of Native American ancestry.

• The 563 objects described in this notice are reasonably believed to have been placed intentionally with or near individual human remains at the time of death or later as part of the death rite or ceremony.

• There is a connection between the human remains and associated funerary objects described in this notice and the Oneida Indian Nation and the Onondaga Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 12, 2024. If competing requests for repatriation are received, the New York State Museum must determine the most appropriate requestor prior to repatriation. Requests for joint repatriation of the human remains and associated funerary objects are considered a single request and not competing requests. The New York State Museum is responsible for sending a copy of this notice to the Indian Tribes and Native Hawaiian organizations identified in this notice.

Authority: Native American Graves Protection and Repatriation Act, 25 U.S.C. 3003, and the implementing regulations, 43 CFR 10.10.

Dated: August 1, 2024.
Melanie O'Brien,
Manager, National NAGPRA Program.

[FR Doc. 2024-17980 Filed 8-12-24; 8:45 am]

BILLING CODE 4312-52-P